DEPARTMENT OF THE TREASURY

Internal Revenue Service

Members of Senior Executive Service Performance Review Boards

AGENCY: Internal Revenue Service (IRS), Department of the Treasury (Treasury).

ACTION: Notice.

SUMMARY: The purpose of this notice is to publish the names of those IRS employees who will serve as members on IRS's Fiscal Year 2015 Senior Executive Service (SES) Performance Review Boards.

DATES: This notice is effective September 1, 2015.

FOR FURTHER INFORMATION CONTACT: Cheryl Huffman, IRS, 250 Murall Drive, Kearneysville, WV 25430, (304) 264-5572.

SUPPLEMENTARY INFORMATION: Pursuant to 5 U.S.C. 4314(c)(4), this notice announces the appointment of members to the IRS's SES Performance Review Boards. The names and titles of the executives serving on the boards are as follows:

John M. Dalrymple, Deputy Commissioner for Services and Enforcement (DCSE)

Jeffrey Tribiano, Deputy Commissioner for Operations Support (DCOS)

David P. Alito, Deputy Commissioner, Wage and Investment (W&I)

Brenda S. Alwin, Director Operations (IT)

Sergio E. Arellano, Director, International Business Compliance, Large Business and International (LB&I)

Thomas A. Brandt, Chief Risk Officer and Senior Advisor to the Commissioner, Office of the Commissioner (COMM)

Carol A. Campbell, Director, Return Preparer Office (DCSE)

Robin L. Canady, Chief Financial Officer, Chief Financial Office (CFO)

Daniel B. Chaddock, Associate Chief Information Officer (CIO), Enterprise Services, Information Technology (IT)

Robert Choi, Director, Employee Plans, Tax Exempt and Government Entities (TEGE)

Cheryl P. Claybough, Industry Director, Communications, Technology and Media (LB&I)

James P. Clifford, Director, Accounts Management (W&I)

Kenneth C. Corbin, Deputy Director, Submission Processing (W&I)

Nanette M. Downing, Assistant Deputy Commissioner Government Entities/Shared Services (TEGE)

Alain Dubois, Deputy Director, Research, Analysis and Statistics (RAS)

Nicole M. Elliott, Senior Director for Operations, Affordable Care Act (COMM)

John D. Fort, Director Field Operations, Northern Area (CI)

Shelley M. Foster, Director, Examination, Small Business/Self-Employed (SB/SE)

Karen L. Freeman, Associate CIO, Enterprise Operations (IT)

Julieta Garcia, Director, Customer Assistance, Relationships and Education (W&I)

Silvana G. Garza, Deputy CIO for Operations (IT)

Linda K. Gilpin, Director, Submission Processing (IT)

Rena C. Girinakis, Deputy National Taxpayer Advocate (RAS)

Dietra D. Grant, Director, Stakeholder Partnership, Education and Communication (W&I)

Susan Greer, Acting Executive Director, Office of Equity, Diversity and Inclusion (EDI)

Darren J. Guillot, Director, Enterprise Collection Strategy (SB/SE)

Daniel S. Hamilton, Director Enterprise Systems Testing (IT)

Donna C. Hansberry, Deputy Commissioner, Tax Exempt and Government Entities (TEGE)

Nancy E. Hauth, Director, Examination (SB/SE)

Mary R. Hernandez, Deputy Associate CIO, Enterprise Operations (IT)

Shenita L. Hicks, Director, Examination Headquarters (SB/SE)

Debra S. Holland, Commissioner, Wage and Investment (W&I)

David W. Horton, Acting Deputy Commissioner (International) (LB&I)

Mary J. Howard, Director, Privacy, Governmental Liaison and Disclosure (PGLD)

Cecil T. Hua, Director Enterprise Technical Implementation (IT)

Robert L. Hunt, Director, Collection (SB/SE)

Sharon C. James, Associate CIO, Cybersecurity (IT)

Robin DelRey Jenkins, Director, Office of Business Modernization (SB/SE)

Gregory E. Kane, Deputy Chief Financial Officer (CFO)

Thomas J. Kelly, Director Field Operations (CI)

Donna J. Kramer, Director, Field Assistance

Susan L. Latham, Director, Shared Support (LB&I)

Robert M. Leahy Jr., Associate Chief Information Officer, Strategy and Planning (IT)

Ronald J. Leidner Jr., Director, Compliance (IT)

Terry Lemons, Chief, Communications and Liaison (C&L)

Sunita B. Lough, Commissioner, Tax Exempt and Government Entities (TEGE)

Deborah Lucas-Trumbull, Director, Demand Management and Project Governance (IT)

William H. Maglin, Associate CFO for Financial Management (CFO)

Paul J. Mamo, Director, Submission Processing (W&I)

Lee Martin, Director, Whistleblower Office

Thomas D. Mathews, Director, Collection (SB/SE)

Rajive K. Mathur, Director, Online Services (OLS)

Ivy S. McChesney, Director, Customer Accounts Services (W&I)

Kevin Q. McIver, Director, Real Estate and Facilities Management (AWSS)

Tina D. Meaux, Director, Pre-Filing and Technical Guidance (LB&I)

Terence V. Milholland, Chief Technology Officer/Chief Information Officer (IT)

Mary Beth Murphy, Deputy Commissioner, Small Business/Self-Employed (SB/SE)

Douglas W. O'Donnell, Deputy Commissioner (International) (LB&I)

Verlinda F. Paul, Director, Office of Program Coordination and Integration (W&I)

Kimberly A. Petty, Associate Chief Information Officer, Applications Development (IT)

Crystal K. Philcox, Chief of Staff (COMM)

Scott B. Prentky, Director Collection (SB/SE)

Robert A. Ragano, Director, Corporate Data (IT)

Daniel T. Riordan, IRS Human Capital Officer, Human Capital Office (HCO)

Tamara L. Ripperda, Director, Exempt Organizations (TEGE)

Kathy J. Robbins, Industry Director, Natural Resources and Construction (LB&I)

Karen M. Schiller, Commissioner, Small Business/Self-Employed (SB/SE)

Rene S. Schwartzman, Business Modernization Executive (W&I)

Rosemary Sereti, Industry Director, Financial Services (LB&I)

Verline A. Shepherd, Associate CIO, User and Network Services (IT)

Nancy A. Sieger, Deputy Associate CIO, Applications Development (IT)

Sudhanshu K. Sinha, Director, Enterprise Architecture (IT)

Marla L. Somerville, Associate CIO, Enterprise Information Technology Program Management Office (IT)

Carolyn A. Tavenner, Director, Affordable Care Act, Affordable Care Act Office (ACA)

Kathryn D. Vaughan, Director, Campus Compliance Services (SB/SE)

Peter C. Wade, Director, Technology Solutions (SB/SE)

Kathleen E. Walters, Deputy IRS Human Capital Officer (HCO)

Richard Weber, Chief, Criminal Investigation (CI)

Stephen A. Whitlock, Director, Whistleblower Office (DCSE)

Kirsten B. Wielobob, Chief Appeals (AP)

Joseph L. Wilson, Project Director (ACA)

Johnny E. Witt, Deputy Director, Affordable Care Act (ACA)

This document does not meet the Treasury's criteria for significant regulations.

John M. Dalrymple,
Deputy Commissioner for Services and Enforcement, Internal Revenue Service.

[FR Doc. 2015-21423 Filed 8-28-15; 8:45 am]

BILLING CODE 4830-01-P